DEPARTMENT OF COMMERCE

Bureau of Industry and Security

15 CFR Parts 734, 740, 744, 746, and 766

[Docket No. 220526-0124]

RIN 0694-AI85

Export Administration Regulations: Revisions to Russia and Belarus Sanctions and Related Provisions; Other Revisions, Corrections, and Clarifications

AGENCY: Bureau of Industry and Security, Department of Commerce.

ACTION: Final rule.

SUMMARY: Between February and May 2022, the Bureau of Industry and Security (BIS) has published a series of amendments to the Export Administration Regulations (EAR) that have increasingly tightened export controls on the Russian Federation (Russia) and Belarus in response to Russia's further invasion of Ukraine, as substantially enabled by Belarus. This rule revises, corrects, and clarifies certain provisions of the EAR that pertain to these controls and related provisions. First, this rule makes certain revisions to the EAR's military end use and military end user controls as they apply to Russia and Belarus, as well as related modifications to the entries for entities on the Entity List that are Russian and Belarusian military end users. Second, it revises restrictions that apply to items destined for certain regions in Ukraine by clarifying the categories of license applications that BIS subjects to case-by-case review. Third, this rule clarifies and corrects provisions of the EAR that pertain to luxury goods destined for Russia and Belarus and items for use in Russia's oil refinery sector. Fourth, it makes a technical correction to an EAR provision describing items and activities subject to the EAR by adding a cross-reference to the Foreign Direct Product Rules of the EAR, which were updated shortly before the Russia and Belarus export controls were imposed. Finally, with regard to export control enforcement, including enforcement of the Russia and Belarus controls, this rule revises the EAR to allow export enforcement case charging letters to be made available to the public prior to the final administrative disposition of such cases.

DATES: This rule is effective June 2, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

This final rule revises, corrects, and clarifies certain provisions of the EAR that were either amended by recent Russia and Belarus-related rules or added to the EAR in parallel with such rules. It also makes a technical correction by adding references to certain provisions that of the EAR were either revised or added by the BIS final rule effective February 3, 2022 ¹ that made organizational and clarifying changes to certain EAR Foreign Direct Product rules. Additionally, this final rule amends an EAR provision to allow for export enforcement case charging letters to be made available to the public prior to the final administrative disposition of such cases.

¹ 87 FR 6022 (Feb. 3, 2022).

Since February 2022, BIS has published a series of rules that have increasingly tightened export controls on Russia in response to Russia's further invasion of Ukraine, and on Belarus for substantially enabling Russia's invasion. In a final rule effective February 24, 2022, Implementation of Sanctions Against Russia Under the Export Administration Regulations (EAR) (“Russia Sanctions Rule”),² BIS implemented stringent export controls on Russia as part of a set of broader U.S. Government sanctions measures, and in a second final rule effective March 2, 2022, Imposition of Sanctions Against Belarus Under the Export Administration Regulations (EAR) (“Belarus Sanctions Rule”),³ BIS imposed similarly stringent export controls on Belarus. During the March-April 2022 period, BIS published additional final rules that either imposed additional export controls on one or both countries or were related to such controls. See Expansion of Sanctions Against the Russian Industry Sector Under the Export Administration Regulations (EAR), effective March 3, 2022 (“Industry Sector Sanctions rule”); ⁴ Further Imposition of Sanctions Against Russia with the Addition of Certain Entities to the Entity List, effective March 3, 2022 (“Russia Entity List rule”); ⁵ and Imposition of Sanctions on `Luxury Goods' Destined for Russia and Belarus and for Russian and Belarusian Oligarchs and Malign Actors Under the Export Administration Regulations (EAR), effective March 11, 2022 (“Luxury Goods Sanctions Rule”).⁶ BIS also published two final rules adding countries that are excluded from certain Belarus and Russia-related licensing requirements that would otherwise apply to exports from abroad, reexports, and transfers (in-country) of certain items subject to the EAR: one rule effective March 4, 2022,⁷ and a second rule effective April 8, 2022.⁸ Taken together, these rules added South Korea, Iceland, Liechtenstein, Norway, and Switzerland to the list of countries set forth in supplement no. 3 to part 746 of the EAR that are excluded from such licensing requirements. Additionally, BIS published a final rule effective April 8, 2022, Expansion of Sanctions Against Russia and Belarus Under the Export Administration Regulations (EAR).⁹ As a result of this rule, which imposed licensing requirements on items controlled on the Commerce Control List (“CCL”) under Categories 0-2 that are destined for Russia or Belarus, all CCL items require export, reexport, and transfer (in-country) licenses if destined for or within either country. Most recently, BIS published a final rule effective May 9, 2022, Expansion of Sanctions Against Russian Industry Sectors Under the Export Administration Regulations (EAR).¹⁰ This rule expanded the existing sanctions against Russian industry sectors by imposing a license requirement for exports, reexports, or transfers (in-country) to and within Russia for additional items subject to the EAR identified under specific Schedule B numbers or Harmonized Tariff Schedule codes.

² 87 FR 12226 (March 3, 2022).

³ 87 FR 13048 (March 8, 2022).

⁴ 87 FR 12856 (March 8, 2022).

⁵ 87 FR 13141 (March 9, 2022).

⁶ 87 FR 14785 (March 16, 2022).

⁷ 87 FR 13627 (March 10, 2022).

⁸ 87 FR 21554 (April 12, 2022).

⁹ 87 FR 22130 (April 14, 2022).

¹⁰ 87 FR 28758 (May 11, 2022).

Corrections to Part 734

This final rule makes three technical corrections to § 734.2(a)(1), the provision that describes what items and activities are subject to the EAR and references other provisions throughout the EAR in which items and activities subject to the EAR are described. The technical corrections made in this final rule are: (1) adding a reference in the third sentence to § 734.9, a provision added to the EAR by the February 3, 2022 rule that made changes to certain EAR Foreign Direct Product Rules; (2) adding references to §§ 734.8 and 734.10; and (3) removing the reference to § 734.11 in the final sentence, as § 734.11 does not reference items and activities subject to the EAR.

Corrections to Part 740

In § 740.9(a)(9)(i) (Temporary imports, exports, reexports, and transfers (in-country) (TMP)), this rule adds the covered regions of Ukraine, as they are described in § 746.6, to the list of countries and regions for which License Exception TMP is eligible for news media. This change is a technical correction; TMP is already available to news media for the covered regions of Ukraine, pursuant to § 746.6(c)(1).

In § 740.19 (Consumer Communications Devices (CCD)), under paragraph (c)(2)(iv) (Ineligible Belarusian Government officials), this final rule corrects a typographical error in the name `Ministry of Defense,' which was intended to be spelled as `Ministry of Defence.'

In supplement no. 1 to part 740—Country Groups, in the Country Group A table, this final rule corrects the entry for Belarus to add a footnote 3 designation. The Belarus Sanctions Rule revised footnote 3 to add a reference to Belarus, but inadvertently did not add a footnote 3 designation to Belarus in Country Group A.

Revisions to Section 744.21: Elimination of the Exclusion of EAR99 Food and Medicine From Licensing Requirements for Russian and Belarusian `Military End Users' and Technical Corrections

As a result of amendments made by the Russia Sanctions Rule and the Belarus Sanctions Rule, BIS imposed an expansive license requirement under § 744.21 of the EAR on items destined to `military end uses' and `military end users' in Russia and Belarus. This final rule revises § 744.21(b)(1)(ii) (License requirement for parties to the transaction), by removing the exclusion pertaining to food or medicine designated as EAR99 destined to Russian and Belarusian `military end uses' and `military end users'. Accordingly, as revised, the license requirement for Russian and Belarusian `military end uses' and `military end users' extends to food and medicine designated as EAR99.

Additionally, this final rule revises § 744.21(e)(1) (License review standards) to state that applications for food and medicine designated as EAR99 destined for Russian and Belarusian `military end uses' and `military end users' will be reviewed under a case-by-case license review policy. This case-by-case license review policy will provide BIS with the flexibility to approve or deny, as warranted, applications involving food and medicine designated as EAR99. Applications for all other items subject to the EAR, including all other EAR99 items, that are destined for Russian and Belarusian `military end uses' and `military end users' under this section are subject to a license review policy of denial under paragraph (e)(1).

BIS is taking this action because food and medicine may significantly contribute to the sustainment and reconstitution of Russian military forces engaged in combat in Ukraine. Combat actions initiated by Russian military forces in Ukraine—including numerous targeted or indiscriminate air, artillery and missile attacks against residential areas—have inflicted horrific casualties on Ukrainian civilians, including children. Combat actions initiated by Russian military forces in Bucha, Ukraine, and other locations previously occupied by Russian military forces, have resulted in similar atrocities. In light of Belarus's substantial enabling of Russia's military aggression in Ukraine, BIS also extends the license requirement for food and medicine designated as EAR99 to Belarusian military end uses and military end users.

This action does not impose a license requirement regarding the export, reexport, or transfer (in-country) of food and medicine designated as EAR99 for the use and benefit of the Russian people, the people of the Crimea region of Ukraine, or the so-called Donetsk People's Republic (DNR) and Luhansk People's Republic (LNR) regions of Ukraine (covered regions of Ukraine). Similarly, this rule does not alter or otherwise affect BIS policy regarding exports, reexports, or transfers (in country) of food and medicine designated as EAR99 to or within any other regions of Ukraine. Therefore, the license requirement for food or medicine designated as EAR99 to Russian and Belarusian `military end uses' and `military end users' will not impede the shipment of such items to the Russian people, to people located in the covered regions of Ukraine, or to people located in any other regions of Ukraine.

This final rule makes a technical correction to § 744.21(a) of the EAR in which a citation for the Commerce Control List (CCL) incorrectly indicates that the CCL is in part 744 of the EAR. This final rule corrects this citation by citing to part 774 of the EAR.

Additionally, consistent with BIS's intent, as reflected in the preamble of the Belarus Sanctions rule, BIS revises § 744.21(a) to add references to Belarus and to the Russian Federation, two destinations with a distinct (and more expansive) scope of applicable license requirements as compared with the other four destinations specified in § 744.21. This revision to the regulatory text was inadvertently omitted in the Belarus Sanctions rule. As a related restructuring revision, to ensure that the license requirements set forth in paragraph (a) are easily understood, this final rule separates the contents of paragraph (a) into paragraphs (a)(1) (applicable to `military end uses' and `military end users' in Burma, Cambodia, China, and Venezuela) and (a)(2) (applicable to `military end uses' and `military end users' in Russia and Belarus). This final rule also makes `military end use' and `military end user' plural in the title of § 744.21.

Supp. No. 4 to Part 744: Modifications to the Entity List: Elimination of Exclusion of Food and Medicine Designated as EAR99 Destined for Russian and Belarusian `Military End Users' on the Entity List

Consistent with the revisions made to the scope of the license requirement set forth in § 744.21 that extends that requirement to food and medicine designated as EAR99 destined for Russian and Belarusian `military end users' (and `military end uses'), this final rule modifies the license requirement columns for 146 entities on the Entity List by eliminating the exclusion of food and medicine designated as EAR99 from the applicable license requirement. This final rule also modifies the applicable license review policy to refer to a policy of denial for all items apart from food and medicine designated as EAR99, which will be subject to a case-by-case review policy. The Russia Sanctions Rule and the Belarus Sanctions Rule had added 51 `military end users' to the Entity List, each with a footnote 3 designation. An additional rule, Additions of Entities to the Entity List, effective April 1, 2022,¹¹ added an additional 95 `military end users' with a footnote 3 designation to the Entity List. In total, all 146 footnote 3-designated entities added by those rules are modified by this final rule. With respect to each of these 146 footnote 3-designated entities, this final rule modifies the license requirement by deleting the language excluding food or medicine designated as EAR99, thereby extending the applicable license requirement to all items subject to the EAR. As a result of these modifications, a license is now required to export, reexport or transfer (in-country) food and medicine designated as EAR99 to these 146 footnote 3-designated entities. This final rule also removes references to export control classification numbers (ECCNs) 5A992.c and 5D992.c, Belarusian “government end users,” and Belarusian state-owned enterprises (SoEs) from the entry for JSC Integral, a footnote 3-designated entity listed under Belarus.

¹¹ 87 FR 20295 (April 7, 2022).

Additionally, this final rule modifies the applicable license application review policy to state that license applications for 143 of these 146 footnote 3-designated entities will be reviewed under a policy of denial with the exception of food and medicine designated as EAR99, which will be reviewed under a case-by-case review policy. The three exceptions to the case-by-case review policy for food and medicine designated as EAR99, all under the destination of Russia, are the Foreign Intelligence Service (SVR), the Federal Security Service (FSB), and the Main Intelligence Directorate. Previously, the applicable license review policy for the FSB and the Main Intelligence Directorate was a presumption of denial. This final rule modifies the license review policy for the FSB and the Main Intelligence Directorate to a policy of denial. Thus, applications destined to these three footnote 3-designated entities will be subject to a review policy of denial. Moreover, unlike with respect to the other 143 footnote 3-designated entities, the review policy of denial will apply to all items subject to the EAR.

Modifications regarding these 146 footnote 3-desginated entities have been unanimously approved by the agencies that comprise the End-User Review Committee (ERC). The ERC, composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Sections 746.6 and 746.8: Revision to the License Review Policies and Related Clarifications

This final rule revises the license review policy in § 746.6 (Crimea Region of Ukraine and Covered Regions of Ukraine) so that it harmonizes with aspects of the license review policy in § 746.8 (Sanctions against Russia and Belarus) that applies to certain types of activities specified in that section. Specifically, this final rule adds to § 746.6 the same categories of license applications specified in § 746.8 (e.g., safety of flight, maritime safety) that BIS will review under a case-by-case license review policy. Additionally, as revised by this final rule, under both provisions, BIS will take into consideration whether the transaction in question would benefit the Russian or Belarusian government or defense sectors. In the case of § 746.6, BIS will also consider whether the transaction would be detrimental to the country or people of Ukraine. Consistent with these changes in review policy, this final rule removes from § 746.6 the reference to the case-by-case review of applications for transactions authorized under OFAC Ukraine-Related General Licenses. BIS expects that harmonizing the license review policies in §§ 746.6 and 746.8 in this manner will make it easier for exporters, reexporters, and transferors to understand the policies.

Clarification to License Review Policy To Support Civil Telecommunications Infrastructure

In § 746.8 (Sanctions against Russia and Belarus), a provision added to the EAR by the Russia Sanctions Rule and subsequently amended by the Belarus Sanctions Rule, under paragraph (b) (Licensing policy), this final rule makes a clarification to the second sentence of the paragraph to add the phrase “in the United States” to clarify that applications for companies headquartered in the United States, as well as those in Country Groups A:5 and A:6, that are in support of civil telecommunications infrastructure, will be reviewed under a case-by-case license review policy.

Clarifications to Supplements No. 2 and 4 to Part 746—Russian Industry Sector Sanction List

This final rule clarifies three of the Schedule B numbers (8421398020, 8421398030, and 8421398040) included in supplement no. 2 to part 746—Russian Industry Sector Sanctions List. The change reflects amendments made to Schedule B since the issuance of an August 2014 rule that added supplement no. 2 to the EAR (79 FR 45680 (Aug. 6, 2014)). This final rule updates supplement no. 2 to include the current Schedule B numbers for these items (8421390120, 8421390130, and 8421390140). This update is limited to the Schedule B numbers and does not otherwise change the description of the items described under supplement no. 2 to part 746. Given that Schedule B number 8421390140 is also listed in supplement no. 4 to part 746, this rule revises the introductory paragraphs of both supplements nos. 2 and 4 to part 746 by adding a cross-reference to this Schedule B number.

Clarification to Supplement No. 5 to Part 746—Luxury Goods Sanctions on Russia and Belarus and Certain Russian and Belarusian Oligarchs and Malign Actors

This final rule clarifies language in a regulatory supplement that was added to the EAR by the Luxury Goods Sanctions Rule. Specifically, this rule makes a clarification to supplement no. 5 to part 746 that identifies by Schedule B numbers `luxury goods' that are subject to a license requirement set forth in § 746.8 when destined for Russia or Belarus, or for certain Russian and Belarusian oligarchs and malign actors regardless of their location. This final rule revises the phrase “$1000 Per Unit Wholesale Price in the U.S.” that appears in each of the sixty-one clothing and shoes Schedule B entries by adding the language “valued at greater than or equal to” to each entry. This revision clarifies that the licensing requirement applies only when the per unit wholesale price in the United States is $1,000 or greater. BIS is making this clarification to assist exporters, reexporters, and transferors in understanding the scope of `luxury goods' that are controlled under those sixty-one Schedule B entries.

Revision to Section 766.20—Record for Decision and Availability of Documents

This final rule revises § 766.20 of the EAR, which governs the public availability of documents in administrative enforcement proceedings, by permitting export enforcement case charging letters to be made available to the public prior to the final administrative disposition of such cases.

Specifically, this final rule amends § 766.20(c)(2)(ii) by revising the first sentence to specify that charging letters filed with an Administrative Law Judge on or after June 2, 2022, can be made available prior to the final administrative disposition of the case. As a result of this change, charging letters will be publicly available following their issuance in accordance with § 766.3 of the EAR. Consistent with the prior language set forth in § 766.20(c)(2)(ii), documents other than charging letters filed in such cases will continue to be made available only after the final administrative disposition of the applicable case.

This change will enhance BIS's transparency efforts, including with respect to actions related to Russia and Belarus export controls, by making information related to administrative enforcement cases available to the public at an earlier stage of the related proceedings. As such, BIS will be able to inform interested parties of ongoing enforcement efforts in a more timely way and educate the exporting community, particularly with respect to recent amendments to the EAR that could result in new bases for enforcement action. Previously, interested parties had less timely information regarding BIS's enforcement activities, limiting their ability to use such information in the development of, for example, their compliance programs. Similarly, other interested stakeholders will benefit from earlier, enhanced visibility.

Savings Clause

For the changes being made in this final rule, shipments of items removed from eligibility for a License Exception or export, reexport, or transfer (in-country) without a license (NLR) as a result of this regulatory action that were en route aboard a carrier to a port of export, reexport, or transfer (in-country), on June 2, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. Additionally, the International Emergency Economic Powers Act, codified, as amended, at 50 U.S.C. Section 1701 et seq., and Executive Order 14068, dated March 11, 2022, serve as authorities for this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.6 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 734

Administrative practice and procedure, Exports, Inventions and patents, Research, Science and technology.

15 CFR Part 740

Administrative practice and procedure, Exports, Reporting and recordkeeping requirements.

15 CFR Part 744

Exports, Reporting and recordkeeping requirements, Terrorism.

15 CFR Part 746

Exports, Reporting and recordkeeping requirements.

15 CFR Part 766

Exports, Administrative enforcement proceedings.

Accordingly, parts 734, 740, 744, 746, and 766 of the Export Administration Regulations (15 CFR parts 730-774) are amended as follows:

PART 734—SCOPE OF THE EXPORT ADMINISTRATION REGULATIONS

1. The authority citation for part 734 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Section 734.2 is amended by revising paragraph (a)(1) to read as follows:

§ 734.2 Subject to the EAR.

(a) * * * (1) “Subject to the EAR” is a term used in the EAR to describe those items and activities over which BIS exercises regulatory jurisdiction under the EAR. Conversely, items and activities that are not subject to the EAR are outside the regulatory jurisdiction of the EAR and are not affected by these regulations. The items and activities subject to the EAR are described in §§ 734.2 through 734.5 and 734.9 of this part. You should review the Commerce Control List (CCL) and any applicable parts of the EAR to determine whether an item or activity is subject to the EAR. However, if you need help in determining whether an item or activity is subject to the EAR, see § 734.6 of this part. Publicly available technology and software not subject to the EAR are described in §§ 734.7, 734.8, 734.10, and supplement no. 1 to this part.

* * * * *

PART 740—LICENSE EXCEPTIONS

3. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

4. Amend § 740.9 by revising paragraph (a)(9)(i) introductory text to read as follows:

§ 740.9 Temporary imports, exports, reexports, and transfers (in-country) (TMP).

(a) * * *

(9) * * *

(i) Commodities necessary for news-gathering purposes (and software necessary to use such commodities) may be temporarily exported or reexported for accredited news media personnel (i.e., persons with credentials from a news-gathering or reporting firm) to Cuba, North Korea, Syria (see supplement no. 1 to part 740), or the covered regions of Ukraine (as specified in § 746.6) if the commodities:

* * * * *

§ 740.19 [Amended]

5. In § 740.19 amend paragraph (c)(2)(iv) by removing the term “Ministry of Defense” and adding in its place the term “Ministry of Defence”.

6. Supplement no. 1 to part 740 is amended by revising the entry for “Belarus” in the Country Group A table to read as follows:

Supplement No. 1 to Part 740—Country Groups
[Country Group A]
Country | [A:1] Wassenaar participating states ¹ | [A:2] Missile technology control regime ² | [A:3] Australia group | [A:4] Nuclear suppliers group ³ | [A:5] | [A:6]
* * * * * * *
Belarus.³
* * * * * * *
¹ Country Group A:1 is a list of the Wassenaar Arrangement Participating States, except for Malta, Russia and Ukraine.
² Country Group A:2 is a list of the Missile Technology Control Regime countries, except for Russia.
³ Country Group A:4 is a list of the Nuclear Suppliers Group countries, except for the People's Republic of China (PRC), Russia, and Belarus.

* * * * *

PART 744—CONTROL POLICY: END-USER AND END-USE BASED

7. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

8. Section 744.21 is amended by revising paragraph (a), the second sentence of paragraph (b)(1)(ii), and the second sentence of paragraph (e)(1) to read as follows:

§ 744.21 Restrictions on certain `military end uses' or `military end users' in Belarus, Burma, Cambodia, the People's Republic of China, the Russian Federation, or Venezuela.

(a) General prohibition. In addition to the license requirements for items specified on the Commerce Control List (CCL) (supplement no. 1 to part 774), you may not export, reexport, or transfer (in-country):

(1) Any item subject to the EAR listed in supplement no. 2 to this part to Burma, Cambodia, the People's Republic of China (China), or Venezuela without a license if, at the time of the export, reexport, or transfer (in-country), you have “knowledge,” as defined in § 772.1 of the EAR, that the item is intended, entirely or in part, for a `military end use,' as defined in paragraph (f) of this section, or a `military end user,' as defined in paragraph (g) of this section, in Burma, Cambodia, China, or Venezuela.

(2) Any item subject to the EAR to Belarus or the Russian Federation without a license if, at the time of the export, reexport, or transfer (in-country), you have “knowledge,” as defined in § 772.1 of the EAR that the item is intended, entirely or in part, for a `military end use,' as defined in paragraph (f) of this section, or a `military end user,' as defined in paragraph (g) of this section, in Belarus or the Russian Federation.

(b) * * *

(1) * * *

(ii) * * * Consistent with paragraph (a) of this section, a license is required for the export, reexport, or transfer (in-country) of any item subject to the EAR to Russia or to Belarus when an entity that is listed on the Entity List under Russia or Belarus pursuant to this section is a party to the transaction as described in § 748.5(c) through (f) of the EAR.

* * * * *

(e) * * *

(1) * * * Applications to export, reexport, or transfer (in-country) items to or within Russia or Belarus described in paragraph (a) of this section will be reviewed with a policy of denial except for food and medicine designated as EAR99, which will be reviewed under a case-by-case review policy, unless otherwise stated in the license review policy column on the Entity List (supplement no. 4 to part 744).

* * * * *

9. Supplement No. 4 to part 744 is amended:

a. Under BELARUS by revising the entries for “140 Repair Plant JSC,” “558 Aircraft Repair Plant JSC,” “2566 Radioelectronic Armament Repair Plant JSC,” “AGAT—Control Systems—Managing Company of Geoinformation Control Systems Holding JSC,” “Agat-Electromechanical Plant OJSC,” “AGAT-SYSTEM,” “ATE-Engineering LLC,” “BelOMO Holding,” “Belspetsvneshtechnika SFTUE,” “BSVT-New Technologies,” “CJSC Beltechexport,” “Department of Internal Affairs of the Gomel Region Executive Committee,” “Internal Troops of The Ministry of Internal Affairs of the Republic of Belarus,” “JSC Integral,” “JSC Transaviaexport Airlines,” “KGB Alpha,” “Kidma Tech OJSC,” “Minotor-Service,” “Minsk Wheeled Tractor Plant,” “Oboronnye Initsiativy LLC,” “OJS KB Radar Managing Company,” “Peleng JSC,” “State Authority for Military Industry of the Republic of Belarus,” “State Security Committee of the Republic of Belarus,” “The Ministry of Defence of the Republic of Belarus, including the Armed Forces of Belarus,” and “Volatavto OJSC”; and

b. Under RUSSIA by revising the entries for “5th Shipyard,” “Admiralty Shipyard JSC,” “Alagir Resistor Factory,” “Aleksandrov Scientific Research Technological Institute NITI,” “All-Russian Scientific-Research Institute Etalon JSC,” “Almaz JSC,” “Argut OOO,” “Communication Center of the Ministry of Defence,” “Dolgoprudniy Design Bureau of Automatics,” “Electronic Computing Technology Scientific-Research Center,” “Electrosignal JSC,” “Federal Research Center Boreskov Institute of Catalysis,” “Federal Security Service (FSB),” “Federal State Budgetary Enterprise of the Administration of the President of Russia,” “Federal State Budgetary Enterprise Special Flight Unit Rossiya of the Administration of the President of Russia,” “Federal State Unitary Enterprise Dukhov Automatics Research Institute (VNIIA),” “Foreign Intelligence Service (SVR),” “Forensic Center of Nizhniy Novgorod Region Main Directorate of the Ministry of Interior Affairs,” “Inteltech PJSC,” “International Center for Quantum Optics and Quantum Technologies LLC,” “Irkut Corporation,” “Irkut Research and Production Corporation Public Joint Stock Company,” “Joint Stock Company NPO Elektromechaniki,” “Joint Stock Company Scientific Research Institute of Computing Machinery,” “JSC Central Research Institute of Machine Building (JSC TsNIIMash),” “JSC Kazan Helicopter Plant Repair Service,” “JSC Rocket and Space Centre—Progress,” “Kamensk-Uralsky Metallurgical Works J.S. Co.,” “Kazan Helicopter Plant PJSC,” “Komsomolsk-na-Amur Aviation Production Organization (KNAAPO),” “Kulon Scientific-Research Institute JSC,” “Lutch Design Office JSC,” “Main Intelligence Directorate,” “Meteor Plant JSC,” “Ministry of Defence of the Russian Federation,” “Moscow Communications Research Institute JSC,” “Moscow Institute of Physics and Technology,” “Moscow Order of the Red Banner of Labor Research Radio Engineering Institute JSC,” “NPO High Precision Systems JSC,” “NPO Splav JSC,” “Oboronprom OJSC,” “Omsk Production Union Irtysh JSC,” “Omsk Scientific-Research Institute of Instrument Engineering JSC,” “Optron JSC,” PJSC Beriev Aircraft Company,” “PJSC Irkut Corporation,” “PJSC Kazan Helicopters,” “Polyot Chelyabinsk Radio Plant JSC,” “POLYUS Research Institute of M.F. Stelmakh Joint Stock Company,” “Promtech-Dubna, JSC,” “Pskov Distance Communications Equipment Plant,” “Public Joint Stock Company United Aircraft Corporation,” “Radiotechnical and Information Systems (RTI) Concern,” “Radiozavod JSC,” “Rapart Services LLC,” “Razryad JSC,” “Research Production Association Mars,” “Rosoboronexport OJSC (ROE),” “Rostec (Russian Technologies State Corporation),” “Rostekh—Azimuth,” “Russian Aircraft Corporation MiG,” “Russian Helicopters JSC,” “Ryazan Radio-Plant,” “Scientific-Production Association and Scientific-Research Institute of Radio-Components,” “Scientific-Production Enterprise Almaz JSC,” “Scientific-Production Enterprise “Kant”,” “Scientific Production Enterprise “Radiosviaz”,” “Scientific-Production Enterprise “Svyaz”,” “Scientific-Production Enterprise Volna,” “Scientific-Production Enterprise Vostok JSC,” “Scientific-Research Institute “Argon”,” “Scientific Research Institute Ferrite-Domen,” “Scientific-Research Institute of Automated Systems and Communications Complexes Neptune JSC,” “Scientific Research Institute of Communication Management Systems,” “SP Kvant,” “Special Design and Technical Bureau for Relay Technology,” “Sukhoi Aviation JSC,” “Sukhoi Civil Aircraft,” “Tactical Missile Corporation, 711 Aircraft Repair Plant (711 ARZ),” “Tactical Missile Corporation, AO GNPP “Region”,” “Tactical Missile Corporation, AO TMKB “Soyuz”,” “Tactical Missile Corporation, Azov Optical and Mechanical Plant,” “Tactical Missile Corporation, “Central Design Bureau of Automation”,” “Tactical Missile Corporation, Concern “MPO—Gidropribor”,” “Tactical Missile Corporation, Joint Stock Company Avangard,” “Tactical Missile Corporation, Joint Stock Company Concern Granit-Electron,” “Tactical Missile Corporation, Joint Stock Company Elektrotyaga,” “Tactical Missile Corporation, Joint Stock Company GosNIIMash,” “Tactical Missile Corporation, Joint Stock Company PA Strela,” “Tactical Missile Corporation, Joint Stock Company “Plant Dagdiesel”,” “Tactical Missile Corporation, Joint Stock Company Plant Kulakov,” “Tactical Missile Corporation, Joint Stock Company Ravenstvo,” “Tactical Missile Corporation, Joint Stock Company Ravenstvo-service,” “Tactical Missile Corporation, Joint-Stock Company “Research Center for Automated Design,” “Tactical Missile Corporation, Joint Stock Company “Salute”,” “Tactical Missile Corporation, Joint Stock Company Saratov Radio Instrument Plant,” “Tactical Missile Corporation Joint Stock Company “Scientific Research Institute of Marine Heat Engineering”,” “Tactical Missile Corporation, Joint Stock Company Severny Press,” “Tactical Missile Corporation, Joint Stock Company “State Machine Building Design Bureau “Vympel” By Name I.I. Toropov”,” “Tactical Missile Corporation, Joint Stock Company “URALELEMENT”,” “Tactical Missile Corporation JSC “KRASNY GIDROPRESS”,” “Tactical Missile Corporation, KB Mashinostroeniya,” “Tactical Missile Corporation, NPO Electromechanics,” “Tactical Missile Corporation, NPO Lightning,” “Tactical Missile Corporation, Petrovsky Electromechanical Plant “Molot”,” “Tactical Missile Corporation, PJSC ANPP Temp Avia,” “Tactical Missile Corporation, PJSC “MBDB ISKRA”,” “Tactical Missile Corporation, Raduga Design Bureau,” “Tactical Missile Corporation, RKB Globus,” “Tactical Missile Corporation, Smolensk Aviation Plant,” “Tactical Missile Corporation, TRV Engineering,” “Tactical Missile Corporation, Ural Design Bureau “Detal”,” “Tactical Missile Corporation, Zvezda-Strela Limited Liability Company,” “Tactical Missiles Corporation JSC,” “Tupolev JSC,” “UEC-Saturn,” “United Aircraft Corporation,” “United Engine Corporation,” “United Instrument Manufacturing Corporation,” and “United Shipbuilding Corporation “Production Association Northern Machine Building Enterprise” ”.

The revisions read as follows:

Supplement No. 4 to Part 744—Entity List

* * * * *

Country | Entity | License requirement | License review policy | Federal Register citation
* * * * * * *
BELARUS | 140 Repair Plant JSC, a.k.a., the following two aliases: —Open Joint Stock Company 140 Repair Plant; and —JSC 140 Repair Plant. 19 Luysi Chalovskoy St., Borisov, 222512, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22
| 558 Aircraft Repair Plant JSC, a.k.a., the following one alias: —JSC 558 ARP. 7 50 Years VLKSM St., Baranovichi, Brest region, 225320, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| 2566 Radioelectronic Armament Repair Plant JSC, a.k.a., the following one alias: —JSC 2566 ZRREV. 54 Gagarina St., Borisov, 222511, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| AGAT—Control Systems—Managing Company of Geoinformation Control Systems Holding JSC, a.k.a., the following one alias: —AGAT—Control Systems. 117/1 Nezavisimosti Ave., Minsk, 220114, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Agat-Electromechanical Plant OJSC, a.k.a., the following two aliases: —JSC Agat Electromechanical Plant; and —Agat-Elektromekhanicheski Zavod. 6 Volgogradskaya St., Minsk, 220012, Belarus; and 117, bld. 3, Nezavisimosti Ave., Minsk 220114, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| AGAT-SYSTEM, 51B Francyska Skaryna St., Minsk, 220141, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| ATE-Engineering LLC, 15A Smolenskaya St., Minsk, 220088, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| BelOMO Holding, a.k.a., the following one alias: —The Belarusian Optical and Mechanical Association. 23 Makaenka St., Minsk, 220114, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Belspetsyneshtechnika SFTUE, a.k.a., the following two aliases: —State-Owned Foreign Trade Unitary Enterprise Belspetsvneshtechnika; and —BSVT. 8 Kalinovsky St., Minsk, 220103, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Beltechexport, CJSC, 86-B Nezavisimosti Ave., Minsk, 220012, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| BSVT-New Technologies, 187 Soltysa Street, Minsk, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Department of Internal Affairs of the Gomel Region Executive Committee, a.k.a., the following one alias: —UVD of the Gomel Region Executive Committee. 3 Kommunarov Street, Gomel, 246050, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Internal Troops of The Ministry of Internal Affairs of the Republic of Belarus, a.k.a., the following one alias: —MVD Internal Troops. 4 Gorodskoi Val, Minsk, 220030, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| JSC Integral, a.k.a., the following two aliases: —OAO Integral; and —Joint-Stock Company Integral—Holding Managing Company. 121A, Kazintsa I.P. Str., Minsk, 220108, Belarus; and 12 Korzhenevskogo Str., Minsk, 220108, Belarus; and 137 Brestskaya Str., Pinsk, Brest region, 225710, Belarus. | All items subject to the EAR. (See §§ 734.9(g),³ 746.8(a)(3), and 744.21(b) of the EAR). This license requirement may be overcome by License Exception GOV under § 740.11(b)(2) and (e) | Policy of denial for all items subject to the EAR apart from food and medicine designated as EAR99, which will be reviewed on a case-by-case basis. See §§ 746.8(b) and 744.21(e) | 87 FR 13061, 3/8/22. 87 FR [INSERT FR PAGE NUMBER] 6/6/22.
| KGB Alpha, a.k.a., the following three aliases: —the State Security Committee Alpha; —Alpha Group; and —Group A. Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Kidma Tech OJSC, a.k.a., the following two aliases: —BSVT-New Technologies; and —BSVT-NT. 187 Soltysa Street, Minsk, 220070, Belarus; and 5/1 Ustenskiy Selsovyet, Orshanskiy Region, Vitebskaya Oblast, Ag. Ustye, 211003, Belarus. | All items subject to the EAR. See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Minotor-Service, a.k.a., the following one alias: —Industrial-Commercial Private Unitary Enterprise Minotor-Service. 40 Radialnaya St., Minsk, 220070, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Minsk Wheeled Tractor Plant, a.k.a., the following two aliases: —MZKT; and —Production Republican Unitary Enterprise Minsk Wheeled Tractor Plant. 150 Partizansky Avenue, Minsk, 220021, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Oboronnye Initsiativy LLC, a.k.a., the following one alias: —LLC Defense Initiatives. 18 1st lane F. Skaryna, Minsk, 220070, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| OJS KB Radar Managing Company, a.k.a., the following two aliases: —JSC KB Radar; and —KB Radar. 64A Partizanskyi Prospect, Minsk, 220026, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Peleng JSC, 25 Makaenka St., Minsk, 220114, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| State Authority for Military Industry of the Republic of Belarus, 115 Nezavisimosti Avenue, Minsk, 220114, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| State Security Committee of the Republic of Belarus, 17 Nezavisimosti Avenue, Minsk, 220030, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| The Ministry of Defence of the Republic of Belarus, including the Armed Forces of Belarus and all operating units wherever located. This includes the national armed services (army and air force), as well as the national guard and national police, government intelligence or reconnaissance organizations of the Republic of Belarus. All addresses located in Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 13061, 3/8/22. 87 FR [INSERT FR PAGE NUMBER] 6/6/22.
| Transaviaexport Airlines JSC, 44 Zakhariva Street, Minsk, 220034, Republic of Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Volatavto OJSC, a.k.a., the following one alias: —NPP VOLATauto. 2/1 Kulman St., office 1-143, Minsk, 220013, Belarus; and 133 Socialist Street, Slutsk, Minsk Region, 223610, Belarus. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
RUSSIA | 5th Shipyard, a.k.a., the following three aliases: —5-y Sudoremontnyy Zavod; —5 SRZ; and —JSC GF 5 SRZ JSC TsS Zvezdochka. 67 Lenina Street, Port, Temryuk, Krasnodarskiy Kray, 353500, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Admiralty Shipyard JSC, 203, Fontanka Emb., 190121, St. Petersburg, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12241, 3/3/22. 87 FR [INSERT FR PAGE NUMBER] 6/6/22.
| * * * * * *
| Alagir Resistor Factory, a.k.a., the following one alias: —Alagirsky Resistor Factory. 202 L. Tolstogo Street, Alagir, Alagirsky District, Severnaya Ossetia-Alania Republic, Russia, 363240. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Aleksandrov Scientific Research Technological Institute NITI, Koporskoe Highway, House 72, Sosnovy Bor, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| All-Russian Scientific-Research Institute Etalon JSC, a.k.a., the following one alias: —VNII Etalon JSC. 19/1 1st Yamskogo Polya St., Moscow, 125124, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Almaz JSC, a.k.a., the following one alias: —Almaz. 16 Tupoleva Street, Rostov-na-Donu, Rostovskaya Oblast, 344093, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Argut OOO, 6 Mnevniki str end 6 fl, Moscow 123308, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| Communication Center of the Ministry of Defence, Bolshoi Znamenskiy per. 21, Moscow, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Dolgoprudniy Design Bureau of Automatics, a.k.a., the following three aliases: —DKBA JSC; —Dolgoprudny; and —Dolgoprudno Design Bureau of Automation. Lyotnaya Street, Dolgoprudniy, Moskovskaya Oblast, 141700, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Electronic Computing Technology Scientific-Research Center, a.k.a., the following one alias: —NICEVEY. 125 Varshavskoye Highway, Moscow, 117587, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Electrosignal JSC, Electrosignalnaya Street, Voronezh, Voronezhskaya Oblast, 394026, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Federal Research Center Boreskov Institute of Catalysis, pr. Lavrentieva 5, Novosibirsk 630090, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Federal Security Service (FSB), a.k.a., the following one alias: —Federalnaya Sluzhba Bezopasnosti. Ulitsa Kuznetskiy Most, Dom 22, Moscow 107031, Russia; and Lubyanskaya Ploschad, Dom 2, Moscow 107031, Russia. | All items subject to the EAR, apart from items that are related to transactions that are authorized by the Department of the Treasury's Office of Foreign Assets Control pursuant to General License No. 1B of March 2, 2021. (See §§ 734.9(g),³ 746.8(a)(3), and 744.21(b) of the EAR) | Policy of denial. See §§ 746.8(b) and 744.21(e) | 82 FR 724, 1/4/17. 82 FR 18219, 4/18/17. 86 FR 37903, 7/19/21. 87 FR 12240, 3/3/22. 87 FR [INSERT FR PAGE NUMBER] 6/6/22.
| * * * * * *
| Federal State Budgetary Enterprise of the Administration of the President of Russia, 1-ya Reysovaya Street, 1, Moscow 119027, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Federal State Budgetary Enterprise Special Flight Unit Rossiya of the Administration of the President of Russia, 1-ya Reysovaya Street, 1, Moscow 119027, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Federal State Unitary Enterprise Dukhov Automatics Research Institute (VNIIA), 22, Sushchevskaya UI, Moscow 127055RU. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Foreign Intelligence Service (SVR), Yasenevo 11 Kolpachny, Moscow, 0101000. | All items subject to the EAR. (See §§ 734.9(g),³ 746.8(a)(3), and 744.21(b) of the EAR) | Policy of denial. See §§ 746.8(b) and 744.21(e) | 87 FR 12240, 3/3/22. 87 FR [INSERT FR PAGE NUMBER] 6/6/22.
| * * * * * *
| Forensic Center of Nizhniy Novgorod Region Main Directorate of the Ministry of Interior Affairs, Gorkiy Street, 71, Nizhniy Novgorod 603950, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Inteltech PJSC, a.k.a., the following three aliases: —Information Telecommunications Technology PJSC; —Inteltech; and —Inteltekh. Electrosignalnaya Street, Voronezh, Voronezhskaya Oblast, 394026, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| International Center for Quantum Optics and Quantum Technologies LLC, a.k.a., the following two aliases: —Russian Quantum Center and —RQC. Business-center “Ural,” 100 Novaya Street, Skolkovo, Moscow, 143025, Russia; and 30 Bolshoy Blvd, Bldg 1, Moscow, 121205, Russia; and 100A Novaya Street, Skolkovo, Odintsovsky District, Moscow, 143025, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| Irkut Corporation, Leningradsky Prospect 68, Moscow 125315, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Irkut Research and Production Corporation Public Joint Stock Company, 68 Leningradsky Prospect, Moscow 125315, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Joint Stock Company NPO Elektromechaniki, a.k.a., the following one alias: —JSC Scientific and Production Association of Electro Mechanic. 31 Mendeleeva street, Miass, Chelyabinsk Region, 456320, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Joint Stock Company Scientific Research Institute of Computing Machinery, Melnichnaya Street, 31, Kirov 610025, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| JSC Central Research Institute of Machine Building (JSC TsNIIMash), Pionerskaya Street, 4, korpus 22, Moskovskaya obl., Korolov 141070, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| JSC Kazan Helicopter Plant Repair Service, a.k.a., the following two aliases: —Kazanski Vertoletny Zavod Remservis; and —KVZ Remservis. Ulitsa Tetsevskaya 14, Kazan, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| JSC Rocket and Space Centre—Progress, Zemetsa Street 18, Samarskaya Oblast, Samara 443009, Russia. | All items subject to the EAR. See §§ 734.9(g),³ 746.8(a)(3), and 744.21(b) of the EAR). This license requirement may be overcome by License Exception GOV under § 740.11(b)(2) and (e) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Kamensk-Uralsky Metallurgical Works J.S. Co. 5 Zavodskaya St., Kamensk Uralsky, 623405 Sverdlovsk region, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| Kazan Helicopter Plant PJSC, Tetsevskaya St, Kazan 420085, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Komsomolsk-na-Amur Aviation Production Organization (KNAAPO), 1 Sovetskaya Street, Komsomolsk-on-Amur, Khabarovsky Krai, Russia 618018. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Kulon Scientific-Research Institute JSC, a.k.a., the following one alias: —NII Kulon JSC. 14 Murmankiv proezd, Moscow, 129075, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Lutch Design Office JSC, a.k.a., the following three aliases: —Lutch Design Bureau JCS; —Lutch JSC; and —KB-Lutch. 25 Pobeda Blvd. Rybinsk, Yaroslavskaya Oblast, 152920, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Main Intelligence Directorate, a.k.a., the following three aliases —Glavnoe Razvedyvatel'noe Upravlenie; —GRU; and —Main Intelligence Department. Khoroshevskoye Shosse 76, Khodinka, Moscow, Russia; and Ministry of Defence of the Russian Federation, Frunzenskaya nab., 22/2, Moscow 119160, Russia. | All items subject to the EAR. (See §§ 734.9(g),³ 746.8(a)(3), and 744.21(b) of the EAR) | Policy of denial. See §§ 746.8(b) and 744.21(e) | 82 FR 724, 1/4/17. 87 FR 12240, 3/3/22. 87 FR [INSERT FR PAGE NUMBER] 6/6/22.
| * * * * * *
| Meteor Plant JSC, 1 Gorky St., Volzhkiy, Volgograd Oblast, 404130, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Ministry of Defence of the Russian Federation, including the Armed Forces of Russia and all operating units wherever located. This includes the national armed services (army, navy, marine, air force, or coast guard), as well as the national guard and national police, government intelligence or reconnaissance organizations of the Russian Federation. All address located in Russia. | All items subject to the EAR. (See §§ 734.9(g),³ 746.8(a)(3), and 744.21(b) of the EAR). The license requirements under this entry also extend to any export, reexport and transfer (in-country) to the entity wherever located worldwide | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Moscow Communications Research Institute JSC, a.k.a., the following one alias: —MNIIS JSC. 34 Kutuzovsky prospect, Moscow, Russia, 121170; and 3/2 Kirovogradsky proezd, Moscow, 109044, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Moscow Institute of Physics and Technology, a.k.a., the following two aliases: —MIPT; and —MFTI. Dolgoprudny Campus: 9 Institutskiy per., Dolgoprudny, Moscow Region 141701, Russia; and Zhukovsky Campus: Ulitsa Gagarina 16, Zhukovsky, Moscow Region 140180, Russia; and Moscow Campus 1 Stroyeniye 1, Klimentovsky Pereulok, Moscow Region 115184, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Moscow Order of the Red Banner of Labor Research Radio Engineering Institute JSC, a.k.a., the following one alias: —MNIRTI JSC. 2/1 Boshoy Trehsvyatitelskiy per., Moscow, 109028, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| NPO High Precision Systems JSC, Kievskaya Street 7, Moscow, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| NPO Splav JSC, 33 ul. Shcheglov Kaya Zaseka Tula, 300004 Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Oboronprom OJSC, 29/141 Vereiskaya Street, Moscow, 121357 Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| Omsk Production Union Irtysh JSC, a.k.a., the following one alias: —OmPO Irtysh. 18 Gurt'yeva St., Omsk, 644060, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Omsk Scientific-Research Institute of Instrument Engineering JSC, a.k.a., the following one alias: —JSC ONIP. 231 Maslennikova St., Omsk, 644009, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Optron JSC, 53 Sherbakovskaya St., Office 37, Moscow, 105187, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| PJSC Beriev Aircraft Company, 1 Aviatorov Square, Taganrog 347923, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| PJSC Irkut Corporation, Regional Aircraft 26 Leninskaya Sloboda, Moscow 115280, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| PJSC Kazan Helicopters, Tetsevskaya Street, 14, Kazan, Tatarstan Republic 420085, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Polyot Chelyabinsk Radio Plant JSC, a.k.a., the following one alias: —ChRZ Polyot (flight) JSC. 6 Ternopol'skaya St., Chelyabinsk, 454126, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| POLYUS Research Institute of M.F. Stelmakh Joint Stock Company, Building 1, 3 Vvedenskogo Street, Moscow, 117342, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Promtech-Dubna, JSC, Programmistov st., 4, room 364, Dubna, Moscow 141983, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| Pskov Distance Communications Equipment Plant, a.k.a., the following two aliases: —Pskov Plant ADS JSC; and —Pskov Distance Communications Equipment (ADS) Plant JSC. 4 Yuri Gagarin Street, Pskov, Pskovskaya Oblast, 180004, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Public Joint Stock Company United Aircraft Corporation, Bolshaya Pionerskaya, Moscow 115054, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Radiotechnical and Information Systems (RTI) Concern, 127083, Moscow, 8 marta, 10/1 Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| Radiozavod JSC, 1 Baydukova Street, Penza, Penzenskaya Oblast, 440015, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Rapart Services LLC, Aeroportovskaya str. 6/2, Solnechnogorskiy region, Dubrobki, 141580, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Razryad JSC, 233 Kosta Avenue, Vladikavkaz, Severnaya Ossetia-Alania Republic, 362035, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Research Production Association Mars, a.k.a., the following two aliases: —RPA Mars; and —NPO Mars. 20 Solnechnaya Street, Ulyanovsk, 432022, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Rosoboronexport OJSC (ROE), Strada Strominka 27, Moscow, 107076, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Rostec (Russian Technologies State Corporation), 24 Usacheva Street, Moscow, Russia, 119048. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240 3/3/22. 87 FR [INSERT FR PAGE NUMBER] 6/6/22.
| Rostekh—Azimuth, Building 2, 5 Suite X, Room 15, Floor 2, Narishkinskaya Alleya, Moscow, 125167, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Russian Aircraft Corporation MiG, Leningradskoe highway, 6, building 1, Moscow, 125171, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Russian Helicopters JSC, Bolshaya Pionerskaya, 1, Moscow, 123610, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12241, 3/3/22. 87 FR [INSERT FR PAGE NUMBER] 6/6/22.
| * * * * * *
| Ryazan Radio-Plant, 11 Lermontova Street, Ryazan, Ryazanskaya Oblast, 390023, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Scientific-Production Association and Scientific-Research Institute of Radio-Components, a.k.a., the following one alias: —NIIRK. 3 Krymsky Val Street, Building 1, Office 1, Moscow, 119049, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Scientific-Production Enterprise Almaz JSC, a.k.a., the following one alias: —JSC NPP Almaz. 1 I.V. Panfilov St., Saratov, 410033, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific-Production Enterprise “Kant”, a.k.a., the following two aliases: —Kant; and —NPP Kant. 12 Talalikhina Street, Floor 7, Moscow, 109316, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific Production Enterprise “Radiosviaz”, a.k.a., the following one alias: —Radiosviaz. 19 Dekabristov Street, Krasnoyarsk, 660021, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific-Production Enterprise “Svyaz”, a.k.a., the following two aliases: —Svyaz; and —NPP Svyaz. 19 Shkolnaya Street, Yasnaya Polyana Village, Shekinsky District, Tulskaya Oblast, 301214, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific-Production Enterprise Volna, a.k.a., the following one alias: —NPP Volna. 26 Varshavskoe Highway, Moscow, 117105, Russia. | All items subject to the EAR. See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific-Production Enterprise Vostok JSC, a.k.a., the following one alias: —JSC NPP Vostok. 276, D. Kovalchuk St., Novosibirsk, 630075, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific-Research Institute “Argon”, a.k.a., the following two aliases: —Argon Scientific-Research Institute JSC; and —NII Argon JSC. 4 Karla Marksa Street, Kaluga, 248000, Russia; and 125 Varshavskoe Shosse, Building 1, Moscow, 117587, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific Research Institute Ferrite-Domen, a.k.a., the following two aliases: —NII Domen; and —Ferrite-Domen Co. 25/3B Zvetochnaya St., Room 417, St. Petersburg, 196006, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Scientific-Research Institute of Automated Systems and Communications Complexes Neptune JSC, a.k.a., the following one alias: —NII Neptune JSC. 80-1/A, 7th Line of Vasilyavskiy Island, St. Petersburg, 199178, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Scientific Research Institute of Communication Management Systems, a.k.a., the following two aliases: —NIISU; and —NIISU JSC. 25/3B Zvetochnaya St., Room 417, St. Petersburg, 196006, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| SP Kvant, a.k.a., the follow three aliases: —Kvant LLC; —Limited Liability Company Joint Venture Quantum Technologies; and —Joint Venture Quantum. D. 46, Etazh 6, pom. 600K, Shosse Varshavskoe, Moscow, 115230, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR 13061, 3/8/22. 87 FR [INSERT FR PAGE NUMBER] 6/6/22.
| * * * * * *
| Special Design and Technical Bureau for Relay Technology, a.k.a., the following two aliases: —Relay Technology Bureau JSC; and —JSCT SKTB RT.55 Nijinsky St., Velikiy Novgorod, 173021, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *
| Sukhoi Aviation JSC, Polikarpov str., 23B, Moscow, 125284 Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| Sukhoi Civil Aircraft, 1 Sovetskaya Street, Komsomolsk-On-Amur 681018, Russia; and 15 Tupoleva Street, OP JSC SCA, Zukhovskiy 140180, Russia; and 23b Bld 2 Polikarpova St, Moscow 125824, Russia; and 26, Bld. 5, Leninskaya Sloboda Street, Moscow, 115280, Russia; and Antonova Avenue 1, Ulianovsk 432072, Russia; and Leningradskaya Street 80/4A, Komsomolsk-On-Amur 681007, Russia. | All items subject to the EAR. (See §§ 734.9(g),³ 746.8(a)(3), and 744.21(b) of the EAR) | Policy of denial for all items subject to EAR apart from food and medicine designated as EAR99, which will be reviewed on a case-by-case basis. See §§ 746.8(b) and 744.21(e) | 87 FR 12241, 3/3/22. 87 FR [INSERT FR PAGE NUMBER] 6/6/22.
| * * * * * *
| Tactical Missile Corporation, 711 Aircraft Repair Plant (711 ARZ), 18 Chkalova Pereulok, Borisoglebsk, Voronezhskaya Oblast, 397171, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, AO GNPP “Region”, a.k.a., the following three aliases: —GNPP Region, PAO; —Aktsionernoe Obshchestvo “Gosudarstvennoe Nauchno-Proizvodstvennoe Predpriyatie “Region,”; and —“Region” Scientific & Production Enterprise JSC. 10 Turaevo I.Z., Lytkarino City, Moscow Region, 140080, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, AO TMKB “Soyuz”, a.k.a., the following four aliases: —Turaevskoe MKB “Soyuz”; —Aktsionernoe Obshchestvo Turaevskoe Mashinostroitelnoe Konstruktorskoe Byuro “Soyuz”; —Soyuz PAO; and —JSC “Turaevskoe Machine-Building Design Bureau “Soyuz. 10 Turaevo I.Z., Lytkarino City, Moscow Region, 140080, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Azov Optical and Mechanical Plant, a.k.a., the following three aliases: —PPO Azovski Optiko-Mekhanicheski Zavod; —Pervichnaya Profsoyuznaya Organizatsiya “Azovski Optiko-Mekhanicheski Zavod” Rossiskogo Profsoyuza Rabotnikov Promyshlennosti;and —JSC AOMZ). 5 Promyshlennaya Street, Azov, Rostovskaya Oblast, 346780, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, “Central Design Bureau of Automation”, a.k.a., the following three aliases: —JSC “TsKBA”; — AO “TsKBA”; and — Aktsionernoe Obshchestvo “Tsentralnoe Konstruktorskoe Byuro Avtomatiki”. 24A Kosmicheski Prospekt, Omsk, Omskaya Oblast,44027, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Concern “MPO—Gidropribor”, a.k.a., the following two aliases: —Joint Stock Company Concern Sea Underwater Weapons Gidropribor; and —Research Institute “Gidpropridor”; Central Research Institute “Gidropribor”. 24, Sampsonievskiy pr., St. Petersburg, 194044, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Avangard, 78 Oktyabrskaya Street, Safonovo, Smolensk region, 215500, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Concern Granit-Electron, 3 Gospitalnaya St, St. Petersburg, 191014, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Elektrotyaga, a.k.a., the following two aliases: —Electric Traction; and —ZAO Elekrotjaga. 50-A Kalinina Str, St Petersburg, 198095, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company GosNIIMash, a.k.a., the following five aliases: —PPO Rosprofprom V “GOSNIIMASH”; —State Research Institute of Mechanical Engineering; —Pervichnaya Profsoyuznaya Organizatsiya Rossiskogo Profsoyuza Rabotnikov Promyshlennosti V “GOSNIIMASH”; —Joint Stock Company “State Research Institute of Mechanical Engineering” named after V.V. Bakhirev”; and —SKB DNIKhTI. 11 Sverdlova Prospekt, Dzerzhinsk, Nizhegorodskaya Oblast, 606002, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company PA Strela, a.k.a. the following one alias: —Production Association Strela. 26 Shevchenko str., Orenburg, 460005, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company “Plant Dagdiesel”, 1 Lenina Street, Kaspiysk, Republic of Dagestan, 368300, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Plant Kulakov, a.k.a., the following one alias: —JSC Plant Named After A.A. Kulakov. 12 Yablochkova Street, St. Petersburg, 197198, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Ravenstvo, a.k.a., the following one alias: —Joint-Stock Company Ravenstvo; Equality. 19 Promyshlennaya Street, St. Petersburg, 198099, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Ravenstvo-service, 19 Promyshlennaya Street, St. Petersburg, 198099, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint-Stock Company “Research Center for Automated Design, a.k.a., following two aliases: —NIC ASK; and —ASK JSC. 37 Leningradsky Prospekt, Room 12, Moscow, 125167, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company “Salute”, a.k.a., the following two aliases: —Salyut, PAO; and —Kuibyshev Mechanical Plant. 20 Moskovskoe Shosse, Samara, 443028, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Saratov Radio Instrument Plant, 108 50 Years of October, Saratov, 410040, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation Joint Stock Company “Scientific Research Institute of Marine Heat Engineering”, a.k.a., the following one alias: —Research Institute of Morteplotehniki. 44 Chernikova Street, Lomonosov, St. Petersburg, 198412, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company Severny Press, a.k.a., the following one alias: —Northern Press. 7 Tallinskaya Street, St. Petersburg, 195196, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company “State Machine Building Design Bureau “Vympel” By Name I.I. Toropov”, a.k.a., the following two aliases: —AO Gos MKB “Vympel” named for II Toropov; and —Vympel NPO. 90 Voloklamskoe Shosse, Moscow, 125424, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Joint Stock Company “URALELEMENT”, a.k.a., the following one alias: —Verkhneufalei Plant “Uralelement”. 24 Dmitrieva St., Verkhny Ufaley, Chelyabinsk region, 456800, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation JSC “KRASNY GIDROPRESS”, a.k.a., the following five aliases: —Aktsionernoe Obshchestvo “Krasny Gidropress,”; —Krasny Gidropress, PAO; —Red Hydraulic Press; —Krasny Gidropress JSC; and —Taganrog Krasnyy Gidropress Plan. 3 Severnaya Place, Taganrog, Rostovskaya Oblast, 347928, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, KB Mashinostroeniya, a.k.a., the following two aliases: —JSC Research and Production Corporation Design Bureau of Mechanical Engineering; and —JSC NPK KBM. 42 Oksky Prospect, Kolomna, Moscow Region, 140402, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, NPO Electromechanics, 31 Mendeleev Street, Chelyabinsk region, 456320, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, NPO Lightning, a.k.a., the following one alias: —Research and Production Association Lightning JSC NPO Molniya. 5K1 Lodochnaya Street, Moscow, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Petrovsky Electromechanical Plant “Molot”, 40 Gogol Street, Petrovsk, Saratov Region, 412541, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, PJSC ANPP Temp Avia, a.k.a., the following six aliases —ANPP “TEMP AVIA”; —Public Joint Stock Company “Arzamas Research and Production Enterprise”; —TEMP-AVIA; —ANPP TEMP AIR; —Joint Stock Company “Arzamas Research And Production Enterprise “TEMP-AVIA”; and —Publichnoe Aktsionernoe Obshchestvo “Arzamasskoe Nauchno-Proizvodstvennoe Predpriyatie “TEMP-AVIA”. 26 G. Arzamas G.Arzamas. Street, Kirov, Nizhniy Novgorod, 607220 Russia | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22
| Tactical Missile Corporation, PJSC “MBDB ISKRA”, a.k.a., the following two aliases: —Aktsionernoe Obshchestvo “Mashinostroitelnoe Konstruktorskoe Byuro “Iskra” Imeni Ivana Ivanovicha Kartukova”; and —AO MKB “ISKRA”. 35 Leningradsky Prospekt, Moscow, 125284, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Raduga Design Bureau, a.k.a., the following four aliases: —AO “GosMKB “Raduga” IM. A.Ya.Bereznyaka,”; —Joint Stock Company “State Machine-Building Design Bureau “Raduga,”; —MKB Raduga; and —GosMKB “Rainbow” them. AND I. Bereznyak. 2A Zhukovskogo, Dubna, Moscowvskaya Oblast, 141983, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, RKB Globus, a.k.a., the following two aliases: —JSC Ryazan Design Bureau Globus; and —Federal State Unitary Enterprise RKB Globus. 6 Vysokovoltnaya Street, Ryazan, 390013, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Smolensk Aviation Plant, a.k.a., the following one alias: —JSC “SmAZ”. 74 Frunze Street, Smolensk, 214006, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, TRV Engineering, a.k.a., the following one alias: —Zvezda-Strela Trading House LLC. 2A Ordzhonikidze Street, Korolev, Moscow Region, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Ural Design Bureau “Detal”, a.k.a., the following four aliases: —Joint-Stock Company “Ural Design Bureau “Detal”; —Aktsionernoe Obshchestvo “Uralskoe Proektno-Konstruktorskoe Byuro “Detal”; —AO UPKB “Detal”; and —Uralskoe Proektno-Konstruktorskoe Byuro Detal, Pao. 8 Pionerskaya Street, Kamensk-Uralski, Sverdlovskaya Oblast, 623409, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missile Corporation, Zvezda-Strela Limited Liability Company, a.k.a., the following two aliases: —Star Arrow; and —Zvezda-Arrow Corporation. 3 Taganrog Severnaya Square, Rostov Region, 347928, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| Tactical Missiles Corporation JSC, KorolevIlyicha Street, 7, 141080, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 12240, 3/3/22. 87 FR [INSERT FR PAGE NUMBER] 6/6/22.
| * * * * * *
| Tupolev JSC, Academician Tupolev Embankment 17, Moscow, 105005, Russia. | All items subject to the EAR. (See §§ 734.9(g),³ 746.8(a)(3), and 744.21(b) of the EAR) | Policy of denial for all items subject to the EAR apart from food and medicine designated as EAR99, which will be reviewed on a case-by-case basis | 87 FR 12240, 3/3/22. 87 FR [INSERT FR PAGE NUMBER] 6/6/22.
| * * * * * *
| UEC-Saturn, 163 Lenin Avenue, Rybinsk 152903, Yavoslavl Region, Russia. | All items subject to the EAR. (See §§ 734.9(g),³ 746.8(a)(3), and 744.21(b) of the EAR) | Policy of denial for all items subject to the EAR apart from food and medicine designated as EAR99, which will be reviewed on a case-by-case basis | 87 FR 12240, 3/3/22. 87 FR [INSERT FR PAGE NUMBER] 6/6/22.
| * * * * * *
| United Aircraft Corporation, Bolshaya Pionerskaya str., 1, Moscow, 115054, Russia. | All items subject to the EAR. (See §§ 734.9(g),³ 746.8(a)(3), and 744.21(b) of the EAR) | Policy of denial for all items subject to the EAR apart from food and medicine designated as EAR99, which will be reviewed on a case-by-case basis | 87 FR 12240, 3/3/22. 87 FR [INSERT FR PAGE NUMBER] 6/6/22.
| United Engine Corporation, 16, Budyonny Avenue, Moscow, 105118 Russia. | All items subject to the EAR. (See §§ 734.9(g),³ 746.8(a)(3), and 744.21(b) of the EAR) | Policy of denial for all items subject to the EAR apart from food and medicine designated as EAR99, which will be reviewed on a case-by-case basis | 87 FR 12241, 3/3/22. 87 FR [INSERT FR PAGE NUMBER] 6/6/22.
| United Instrument Manufacturing Corporation, Vereiskaya 29, str. 141, Moscow, Russia. | All items subject to the EAR. (See §§ 734.9(g),³ 746.8(a)(3), and 744.21(b) of the EAR) | Policy of denial for all items subject to the EAR apart from food and medicine designated as EAR99, which will be reviewed on a case-by-case basis | 87 FR 12240, 3/3/22. 87 FR [INSERT FR PAGE NUMBER] 6/6/22.
| * * * * * *
| United Shipbuilding Corporation “Production Association Northern Machine Building Enterprise”, a.k.a., the following one alias: —JSC PO Sevmash. 58 Archangelskoye Shosse, Severodvinsk, Archangelsk Region, 164500, Russia. | All items subject to the EAR. (See §§ 734.9(g),³ 746.8(a)(3), and 744.21(b) of the EAR) | Policy of denial for all items subject to the EAR apart from food and medicine designated as EAR99, which will be reviewed on a case-by-case basis. See §§ 746.8(b) and 744.21(e) | 87 FR 20299, 4/7/22. 87 FR [INSERT FR PAGE NUMBER] 6/6/22.
| * * * * * *

* * * * *

PART 746—EMBARGOES AND OTHER SPECIAL CONTROLS

10. The authority citation for part 746 continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 6, 2021, 86 FR 26793 (May 10, 2021).

11. Section 746.6 is amended by revising paragraph (b) to read as follows:

§ 746.6 Crimea Region of Ukraine and Covered Regions of Ukraine.

* * * * *

(b) License review policy. With limited exceptions, applications for the export, reexport, or transfer (in-country) of any item that requires a license pursuant to the requirements of this section will be reviewed with a policy of denial. The following types of license applications for licenses required under paragraphs (a)(1) and (2) of this section will be reviewed on a case-by-case basis: applications related to safety of flight; applications related to maritime safety; applications for civil nuclear safety; applications to meet humanitarian needs; applications that support government space cooperation; applications for items destined to wholly-owned U.S. subsidiaries, foreign subsidiaries of U.S. companies that are joint ventures with other U.S. companies, joint ventures of U.S. companies with companies headquartered in countries from Country Group A:5 and A:6 in supplement No. 1 to part 740 of the EAR, the wholly-owned subsidiaries of companies headquartered in countries from Country Group A:5 and A:6 in supplement no. 1 to part 740, joint ventures of companies headquartered in Country Groups A:5 and A:6 with other companies headquartered in Country Groups A:5 and A:6; applications for companies headquartered in the United States or in Country Groups A:5 and A:6 to support civil telecommunications infrastructure; and government-to-government activities. In reviewing such applications, whether the transaction in question would benefit the Russian or Belarusian government or defense sector or would otherwise be detrimental to the country or people of Ukraine are factors that will be taken into consideration.

* * * * *

12. Section 746.8 is amended by revising paragraphs (a)(3) and (b) to read as follows:

§ 746.8 Sanctions against Russia and Belarus.

(a) * * *

(3) Foreign-produced “direct product” items subject to the EAR under Russia/Belarus-Military End User FDP rule. Except as described in paragraph (a)(4) of this section, a license is required to reexport, export from abroad, or transfer (in-country) to or within any destination any foreign-produced item subject to the EAR under § 734.9(g) of the EAR.

* * * * *

(b) Licensing policy. With limited exceptions, applications for the export, reexport, or transfer (in-country) of any item that requires a license for export or reexport to or transfer pursuant to the requirements of this section will be reviewed with a policy of denial. The following types of license applications for licenses required under paragraphs (a)(1) and (2) of this section will be reviewed on a case-by-case basis: applications related to safety of flight; applications related to maritime safety; applications for civil nuclear safety; applications to meet humanitarian needs; applications that support government space cooperation; applications for items destined to wholly-owned U.S. subsidiaries, foreign subsidiaries of U.S. companies that are joint ventures with other U.S. companies, joint ventures of U.S. companies with companies headquartered in countries from Country Group A:5 and A:6 in supplement No. 1 to part 740 of the EAR, the wholly-owned subsidiaries of companies headquartered in countries from Country Group A:5 and A:6 in supplement No. 1 to part 740, joint ventures of companies headquartered in Country Groups A:5 and A:6 with other companies headquartered in Country Groups A:5 and A:6; applications for companies headquartered in the United States or in Country Groups A:5 and A:6, in support of civil telecommunications infrastructure; and government-to-government activities. In reviewing such applications, whether the transaction in question would benefit the Russian or Belarusian government or defense sector are factors that will be taken into consideration. License applications required under paragraph (a)(3) of this section will be reviewed under a policy of denial in all cases.

* * * * *

13. Supplement No. 2 to part 746 is amended:

a. By revising the last sentence of the introductory text,

b. By removing the entries for `8421398020,' `8421398030,' and `8421398040', and

c. By adding the entries for `8421390120,' `8421390130,' and `8421390140'.

The revision and additions read as follows:

Supplement No. 2 to Part 746—Russian Industry Sector Sanction List

* * * Schedule B numbers 8421390140, 8479899850, and 8705200000 are listed in both this supplement and supplement no. 4 to this part, so exporters, reexporters, and transferors must comply with the license requirements under both § 746.5(a)(1)(i) and (ii) as applicable.

Schedule B | Description
* * * * * * *
8421390120 | Electrostatic precipitators, industrial gas cleaning equipment.
8421390130 | Industrial gas cleaning equipment, NESOI.
8421390140 | Gas separation equipment.
* * * * * * *

* * * * *

14. Supplement No. 4 to part 746 is amended by revising the second to last sentence of paragraph (a) to read as follows:

Supplement No. 4 to Part 746—HTS Codes and Schedule B Numbers That Require a License for Export, Reexport, and Transfer (In-Country) to or Within Russia Pursuant to § 746.5(a)(1)(ii)

(a) * * * Schedule B numbers 8421390140, 8479899850, and 8705200000 are listed in both this supplement and supplement no. 2 to this part, so exporters, reexporters, and transferors must comply with the license requirements under both § 746.5(a)(1)(i) and (ii) as applicable. * * *

* * * * *

Supplement No. 5 to Part 746 [Amended]

15. Supplement No. 5 to part 746 is amended by removing the text “$1000 PER UNIT WHOLESALE PRICE IN THE U.S.” wherever it appears and adding in its place “GREATER THAN OR EQUAL TO $1000 PER UNIT WHOLESALE PRICE IN THE U.S.”

PART 766—ADMINISTRATIVE ENFORCEMENT PROCEEDINGS

16. The authority citation for part 766 continues to read as follows:

Authority: 50 U.S.C. 4801-4852; 50 U.S.C. 4601 et seq.; 50 U.S.C. 1701 et seq.; E.O. 13222, 66 FR 44025, 3 CFR, 2001 Comp., p. 783.

17. Section 766.20 is amended by revising paragraph (c)(2)(ii) to read as follows:

§ 766.20 Record for decision and availability of documents.

* * * * *

(c) * * *

(2) * * *

(ii) Other cases. In all other cases, documents other than charging letters filed on or after June 2, 2022, will be available only after the final administrative disposition of the case. In these cases, parties desiring to restrict access to any portion of the record under paragraph (b) of this section must assert their claim of confidentiality, together with the reasons for supporting the claim, before the close of the proceeding.

Thea D. Rozman Kendler,
Assistant Secretary for Export Administration.

[FR Doc. 2022-11885 Filed 6-2-22; 4:15 pm]

BILLING CODE 3510-JT-P